DEPARTMENT OF ENERGY

Federal Energy Regulatory Commission

[Docket No. EL10-63-000]

EnerNOC, Inc. v. FirstEnergy; Notice of Complaint

May 3, 2010.

Take notice that on April 30, 2010, pursuant to section 206 of the Federal Energy Regulatory Commission's (Commission) Rules of Practice and Procedure, 18 CFR 385.206 (2009) and section 206 of the Federal Power Act, EnerNOC, Inc. (Complainant) filed a formal complaint against FirstEnergy ¹ (Respondent) alleging that recent ASTI Integration Auctions held from March 15 to March 19, 2010 failed to comply with directives as established by the Commission in its Order, 129 FERC ¶ 61,249, issued in Dockets ER09-1589-000 and EL10-6-000.²

¹ For purposes of this filing (except as otherwise indicated by context), FirstEnergy is FirstEnergy Service Company acting on behalf of six of its affiliates: American Transmission Systems, Inc. (ATSI), The Cleveland Electric Illuminating Company, Ohio Edison Company, The Toledo Edison Company, Pennsylvania Power Company, and FirstEnergy Solutions Corp.

² Order Addressing RTO Realignment Request and Complaint, Docket No. ER09-1589-000 and EL10-6-000, 129 FERC ¶ 61,249 (December 17, 2009).

The Complainant certifies that copies of the complaint were served on the contacts for the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 20, 2010.

Kimberly D. Bose,
Secretary.

[FR Doc. 2010-11107 Filed 5-10-10; 8:45 am]

BILLING CODE 6717-01-P